DEPARTMENT OF ENERGY

10 CFR Part 1042

[DOE-HQ-2025-0016]

RIN 1903-AA25

Nondiscrimination on the Basis of Sex in Sports Programs Arising Out of Federal Financial Assistance

AGENCY: Office of Civil Rights and EEO, Department of Energy.

ACTION: Direct final rule; withdrawal.

SUMMARY: The U.S. Department of Energy (“DOE” or “the Department”) is withdrawing the May 16, 2025, direct final rule (“DFR”) published at 90 FR 20786. DOE is exercising its discretion to withdraw and terminate this rulemaking. This withdrawal action does not preclude DOE from proposing regulatory changes in the future, including proposing a rule(s) that may be substantially identical or similar to those previously proposed.

DATES: As of September 10, 2025, the DFR published in the Federal Register on May 16, 2025 at 90 FR 20786, and delayed at 90 FR 31141 (July 14, 2025) is withdrawn.

FOR FURTHER INFORMATION CONTACT: Mr. Jeffrey Novak, U.S. Department of Energy, Office of the General Counsel, GC-1, 1000 Independence Avenue SW, Washington, DC 20585; (202) 586-5281 or DOEGeneralCounsel@hq.doe.gov.

SUPPLEMENTARY INFORMATION: The May 16, 2025 DFR rescinded a provision in 10 CFR 1042.450 that requires certain funding recipients that sponsor sports teams for members of one sex to allow members of the opposite sex to try out for them. The Department has decided to focus its limited resources on advancing other priorities.

This withdrawal action does not preclude DOE from proposing regulatory changes in the future, including proposing a rule(s) that may be substantially identical or similar to those previously proposed. Accordingly, DOE withdraws the May 16, 2025, DFR.

Signing Authority

This document of the Department of Energy was signed on September 5, 2025, by Chris Wright, the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 8, 2025.
Treena V. Garrett,
Federal Register Liaison Officer, U.S. Department of Energy.

[FR Doc. 2025-17426 Filed 9-9-25; 8:45 am]

BILLING CODE 6450-01-P